DEPARTMENT OF LABOR

Employment and Training Administration

[TA-W-65,297]

Hewlett Packard Caribe, BV, LLC, Aguadilla, Puerto Rico; Notice of Termination of Investigation

Pursuant to Section 221 of the Trade Act of 1974, as amended, an investigation was initiated on February 19, 2009 in response to a petition filed by a Puerto Rico workforce office on behalf of workers of Hewlett Packard Caribe, BV, LLC, Aguadilla, Puerto Rico.

The petitioner requested that the petition be withdrawn. Consequently, the investigation has been terminated.

Signed at Washington, DC, this 26th day of March 2009.
Richard Church,
Certifying Officer, Division of Trade Adjustment Assistance.

[FR Doc. E9-8924 Filed 4-17-09; 8:45 am]

BILLING CODE 4510-FN-P